DEPARTMENT OF TRANSPORTATION

Federal Railroad Administration

[Docket Number FRA-2006-23687]

Notice of Petition for Approval

In accordance with Title 49 Code of Federal Regulations (CFR) 236.913(e)(1), notice is hereby given that the Federal Railroad Administration (FRA) has received a petition for approval of a Product Safety Plan (PSP) submitted pursuant to 49 CFR part 236, subpart H. The individual petition is described below, including the party seeking approval, the requisite docket number, and a brief summary of the petition.

BNSF Railway Company

The BNSF Railway Company (BNSF) submitted a petition for approval of a PSP for its Electronic Train Management System (ETMS). BNSF asserts that the PSP demonstrates ETMS has been designed in a safe manner and that it supports BNSF's assessment that railroad operations with ETMS are as safe as, or safer than, railroad operations without ETMS. The PSP provides descriptions of the ETMS itself, ETMS safety process and analyses, validation and verification processes used during development of ETMS, and operational and support requirements and procedures.

Interested parties are invited to participate in this safety review by providing written information or comments pertinent to FRA's consideration of the above petition for approval of the PSP. All communications concerning this approval should identify the appropriate docket number (FRA-2006-23687) and may be submitted by any of the following methods:

• Web site: http://dms.dot.gov. Follow the instructions for submitting comments on the DOT electronic docket;

• Fax: 202-493-2251;

• Mail: Docket Management Facility, U.S. Department of Transportation, 400 Seventh Street, SW., Nassif Building, Room PL-401, Washington, DC 20590-0001; or

• Hand delivery: Room PL-401 on the plaza level of the Nassif Building, 400 Seventh Street, SW., Washington, DC, between 9 a.m. and 5 p.m., Monday through Friday, except Federal holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment on behalf of an association, business, labor union, etc.). You may review the DOT's complete Privacy Act Statement in the Federal Register published on April 11, 2000 (Volume 65, Number 70; Pages 19477-78). The Statement may also be found at http://dms.dot.gov.

Issued in Washington, DC on November 1, 2006.
Grady C. Cothen, Jr.,
Deputy Associate Administrator for Safety Standards and Program Development.

[FR Doc. E6-18619 Filed 11-3-06; 8:45 am]

BILLING CODE 4910-06-P